DEPARTMENT OF THE INTERIOR

Office of Surface Mining Reclamation and Enforcement

Notice of Proposed Information Collection

AGENCY: Office of Surface Mining Reclamation and Enforcement.

ACTION: Notice and request for comments.

SUMMARY: In compliance with the Paperwork Reduction Act of 1995, the Office of Surface Mining Reclamation and Enforcement (OSM) is announcing its intention to request renewed approval for the collection of information for OSM's Special Permanent Program Performance Standards—Operations in Alluvial Valley Floors.

DATES: Comments on the proposed information collection must be received by August 12, 2013, to be assured of consideration.

ADDRESSES: Comments may be mailed to Adrienne Alsop, Office of Surface Mining Reclamation and Enforcement, 1951 Constitution Ave. NW., Room 202-SIB, Washington, DC 20240. Comments may also be submitted electronically to aalsop@osmre.gov or by Fax to (202) 219-3276.

FOR FURTHER INFORMATION CONTACT: To receive a copy of the information collection request contact Adrienne Alsop, at (202) 208-2818 or by email to aalsop@osmre.gov.

SUPPLEMENTARY INFORMATION: The Office of Management and Budget (OMB) regulations at 5 CFR part 1320, which implement provisions of the Paperwork Reduction Act of 1995 (Pub. L. 104-13), require that interested members of the public and affected agencies have an opportunity to comment on information collection and recordkeeping activities [see 5 CFR 1320.8 (d)]. This notice identifies an information collection that OSM will be submitting to OMB for extension. This collection is contained in 30 CFR 822.

OSM has revised burden estimates, where appropriate, to reflect current reporting levels or adjustments based on reestimates of burden or respondents. OSM will request a 3-year term of approval for this information collection activity.

Comments are invited on: (1) The need for the collection of information for the performance of the functions of the agency; (2) the accuracy of the agency's burden estimates; (3) ways to enhance the quality, utility and clarity of the information collections; and (4) ways to minimize the information collection burden on respondents, such as use of automated means of collection of the information. A summary of the public comments will accompany OSM's submissions of the information collection request to the Office of Management and Budget (OMB).

Before including your address, phone number, email address, or other personal identifying information in your comment, you should be aware that your entire comment, including your personal identifying information, may be made publicly available at any time. While you can ask us in your comment to withhold your personal identifying information from public review, we cannot guarantee that we will be able to do so.

This notice provides the public with 60 days in which to comment on the following information collection activity:

Title: 30 CFR 822—Special Permanent Program Performance Standards—Operations in Alluvial Valley Floors.

OMB Control Number: 1029-0049.

Summary: Sections 510(b)(5) and 515(b)(10)(F) of the Surface Coal Mining and Reclamation Act of 1977 (the Act) protect alluvial valley floors from the adverse effects of surface coal mining operations west of the 100th meridian. Part 822 requires the permittee to install, maintain, and operate a monitoring system in order to provide specific protection for alluvial valley floors. This information is necessary to determine whether the unique hydrologic conditions of alluvial valley floors are protected according to the Act.

Bureau Form Number: None.

Frequency of Collection: Annually.

Description of Respondents: 21 coal mining operators who operate on alluvial valley floors and 4 State regulatory authorities.

Total Annual Responses: 25.

Total Annual Burden Hours: 2,750.

Total Annual Non-wage Costs: $0.

Dated: June 4, 2013.
Andrew F. DeVito,
Chief, Division of Regulatory Support.

[FR Doc. 2013-13784 Filed 6-10-13; 8:45 am]

BILLING CODE 4310-05-P